DEPARTMENT OF HOMELAND SECURITY

Coast Guard

33 CFR Part 165

[Docket No. USCG-2014-1017]

RIN 1625-AA00, 1625-AA00

Safety Zone; Marine Safety Unit Savannah Safety Zone for Heavy Weather and Other Natural Disasters, Savannah Captain of the Port Zone, Savannah, GA

AGENCY: Coast Guard, DHS.

ACTION: Final rule.

SUMMARY: The Coast Guard is establishing a safety zone throughout the Marine Safety Unit Savannah Captain of the Port Zone. This action is necessary to consolidate, clarify, and otherwise modify safety regulations to better meet safety needs within the ports of Savannah and Brunswick. This action establishes safety zones in the event of natural or manmade disasters affecting navigable waterways within the Marine Safety Unit Savannah Captain of the Port Zone.

DATES: This rule is effective on June 1, 2015.

ADDRESSES: Documents mentioned in this preamble are part of docket USCG-2014-1017. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Lieutenant Christopher D. McElvaine, U.S. Coast Guard Marine Safety Unit Savannah at (912) 652-4353 or email at Christopher.d.mcelvaine@uscg.mil. If you have questions on viewing the docket, call Cheryl Collins, Program Manager, Docket operations, telephone 202-366-9826.

SUPPLEMENTARY INFORMATION:

Table of Acronyms

DHS Department of Homeland Security

FR Federal Register

NPRM Notice of proposed rulemaking

A. Regulatory Information

On February 27, 2015, we published a notice of proposed rulemaking entitled Safety Zone; Marine Safety Unit Savannah Safety Zone for Heavy Weather and Other Natural Disasters, Savannah Captain of the Port Zone, Savannah, GA. We received one public comment in support of the safety zone. No public meeting was requested, and none was held. No other documents were published as part of this rulemaking.

B. Basis and Purpose

The legal basis for this rule is the Coast Guard's authority to establish regulated navigation areas and other limited access areas: 33 U.S.C. 1231; 50 U.S.C. 191, 195; 33 CFR 1.05-1, 6.04-1, 160.5; Department of Homeland Security Delegation No. 0170.1.

The purpose of these regulations is to ensure the safety of life on navigable waters of the United States through the addition of regulations in the event of natural and other disasters.

C. Discussion of Rule

The Coast Guard is establishing a temporary safety zone throughout the Marine Safety Unit Savannah Captain of the Port Zone. This action is necessary to consolidate, clarify, and otherwise modify safety and security zone regulations within the Ports of Savannah and Brunswick. This action would establish a safety zone in the event of a disaster affecting navigable waterways within the Marine Safety Unit Savannah Captain of the Port Zone.

Only one positive comment was received in support of the regulation. No changes were made in the rule making.

D. Regulatory Analyses

We developed this rule after considering numerous statutes and executive orders related to rulemaking. Below we summarize our analyses of these statutes or executive orders.

1. Regulatory Planning and Review

This rule is not a significant regulatory action under section 3(f) of Executive Order 12866, Regulatory Planning and Review, and does not require an assessment of potential costs and benefits under section 6(a)(3) of that order. The Office of Management and Budget has not reviewed it under that Order. It is not “significant” under the regulatory policies and procedures of the Department of Homeland Security (DHS).

The regulations that are being added are not expected to have a significant regulatory impact due to the infrequency of use for the safety zone.

2. Impact of Small Entities

The Regulatory Flexibility Act of 1980 (RFA), 5 U.S.C. 601-612, as amended, requires federal agencies to consider the potential impact regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities. This safety zone would not have a significant impact on a substantial number of small entities for the following reasons: The safety zone would be activated and subject to enforcement only during the event of natural or other disasters.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FUTHER INFORMATION CONTACT section above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on State or local governments and would either preempt State law or impose a substantial direct cost of compliance on them. We have analyzed this rule under that Order and have determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or safety that may disproportionately affect children.

11. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We analyzed this rule under Department of Homeland Security Management Directive 023-01 and Commandant Instruction M16475.1D, which guide the Coast Guard in complying with the National Environmental Policy Act of 1969 (NEPA) (42 U.S.C. 4321-4370f), and have determined that this action is one of a category of actions that do not individually or cumulatively have a significant effect on the human environment. This rule involves waterway use restrictions that would be otherwise published as a Temporary Final Rule within the Savannah Captain of the Port Zone. This rule is categorically excluded from further review under paragraph 34(g) of Figure 2-1 of the Commandant Instruction. An environmental analysis checklist supporting this determination and a Categorical Exclusion Determination are available in the docket where indicated under ADDRESSES. We seek any comment or information that may lead to the discovery of a significant environmental impact from the rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. Add § 165.780 to read as follows:

§ 165.780 Safety Zone; Marine Safety Unit Savannah Safety Zone for Heavy Weather and other Natural Disasters, Savannah Captain of the Port Zone, Savannah, GA.

(a) Regulated areas. The following areas are established as safety zones during the specified conditions:

(1) Savannah, GA. All waters within the Port of Savannah, GA, encompassed within following locations: starting at the demarcation line drawn across the seaward extremity of the Savannah River entrance, and encompassing all of the waters of the Savannah River, Savannah GA.

(2) Brunswick, GA. All waters starting at the demarcation line drawn across the seaward extremity of the Savannah River entrance, and encompassing all of the waters of the Brunswick River, Brunswick GA.

(3) All coordinates are North American Datum 1983.

(b) Definition. (1) The term “designated representative” means Coast Guard Patrol Commanders, including Coast Guard coxswains, petty officers, and other officers operating Coast Guard vessels, and Federal, state, and local officers designated by or assisting the Captain of the Port Savannah in the enforcement of the regulated area.

(2) Hurricane Port Condition YANKEE. Set when weather advisories indicate that sustained Gale Force winds from a tropical or hurricane force storm are predicted to make landfall at the port within 24 hours.

(3) Hurricane Port Condition ZULU. Set when weather advisories indicate that sustained Gale Force winds from a tropical or hurricane force storm are predicted to make landfall at the port within 12 hours.

(c) Regulations. (1) Hurricane Port Condition YANKEE. All commercial, oceangoing vessels and barges over 500 GT are prohibited from entering the regulated areas designated as being in Port Condition YANKEE; within 24 hours of anticipated landfall of gale force winds (39 mph) from tropical or hurricane force storm; or upon the Coast Guard setting Port Condition YANKEE for inbound ocean going commercial vessel traffic over 500 GT. Oceangoing commercial vessel traffic outbound will be authorized to transit through the regulated areas until Port Condition ZULU.

(2) Hurricane Port Condition ZULU. All commercial, oceangoing vessels and barges over 500 GT are prohibited from entering the regulated areas designated as being in Port Condition ZULU; within 12 hours of anticipated landfall of a tropical storm or hurricane; or upon the Coast Guard setting Port Condition ZULU, unless written permission is obtained from the Captain of the Port. All ship-to-shore cargo operations must cease six hours prior to setting Port Condition Zulu.

(3) Emergency Waterway Restriction for Other Disasters. Any natural or other disasters that are anticipated to affect the COTP Savannah AOR will result in the prohibition of commercial vessel traffic transiting or remaining in any of the two regulated areas predicted to be affected as designated by the COTP Savannah.

(4) Persons and vessels desiring to enter, transit through, anchor in, or remain in the regulated area may contact the Captain of the Port Savannah via telephone at (912)-247-0073, or a designated representative via VHF radio on channel 16, to request authorization. If authorization to enter, transit through, anchor in, or remain in the regulated area is granted by the Captain of the Port Savannah or a designated representative, all persons and vessels receiving such authorization must comply with the instructions of the Captain of the Port Savannah or a designated representative.

(5) Coast Guard Marine Safety Unit Savannah will attempt to notify the maritime community of periods during which these safety zones will be in effect via Broadcast Notice to Mariners or by on-scene designated representatives.

(6) The Coast Guard will provide notice of the regulated area via Broadcast Notice to Mariners or by on-scene designated representatives.

(7) This regulation does not apply to authorized law enforcement agencies operating within the regulated area.

Dated: April 28, 2015.
O. Vazquez,
Lieutenant Commander, U.S. Coast Guard, Acting Captain of the Port Savannah.

[FR Doc. 2015-11177 Filed 5-7-15; 8:45 am]

BILLING CODE 9110-04-P